DEPARTMENT OF HEALTH AND HUMAN SERVICES

Substance Abuse and Mental Health Services Administration

Center for Substance Abuse Prevention; Notice of Meeting

Pursuant to Pub. L. 92-463, notice is hereby given of the meeting of the SAMHSA Center for Substance Abuse Prevention (CSAP) National Advisory Council on May 25-26, 2005.

The meeting will be open and will include a Director's Report, and discussion of the Center's policy issues and current administrative, legislative, and program developments. The meeting will also include a presentation on the Center's National Prevention Partners initiative.

Substantive program information, a summary of the meeting, and a roster of Council members may be obtained either by accessing the SAMHSA Council Web site, http://www.samhsa.gov/council/csap/csapnac.aspx or by communicating with the contact listed below. The transcript for the open session will also be available on the SAMHSA CSAP Council Web site as soon as possible after the meeting.

Committee Name: Substance Abuse and Mental Health Services Administration, Center for Substance Abuse Prevention National Advisory Council.

Date/Time: Wednesday, May 25, 2005, 2 p.m. to 5 p.m., Thursday, May 26, 2005, 9 a.m. to 3 p.m.

Place: 1 Choke Cherry Road, Sugarloaf Conference Room, Rockville, Maryland 20857.

Type: Open.

Contact: Tia Haynes, Committee Management Specialist, 1 Choke Cherry Road, 4-1054, Rockville, Maryland 20857, Telephone: (240) 276-2436, Fax: (240) 276-2439, E-mail: Tia.haynes@samhsa.hhs.gov.

Dated: May 10, 2005.
Toian Vaughn,
Committee Management Officer, Substance Abuse and Mental Health Services Administration.

[FR Doc. 05-9661 Filed 5-13-05; 8:45 am]

BILLING CODE 4162-20-P